DEPARTMENT OF HOUSING AND URBAN DEVELOPMENT

24 CFR Part 30

[Docket No. FR-5081-C-03]

RIN 2501-AD23

Civil Money Penalties: Certain Prohibited Conduct; Technical Correction

AGENCY: Office of the Secretary, HUD.

ACTION: Final rule, technical correction.

SUMMARY: On January 15, 2009, HUD published a final rule to revise HUD's regulations that govern the imposition of civil money penalties. The final rule contained, however, a typographical error in the amendatory language for a revision to 24 CFR 30.90(b). HUD published a second final rule on January 26, 2009, that further amended the section. Because of the error contained in the January 15, 2009 final rule, the amendatory language contained in the January 26, 2009, final rule was also in error. This document corrects these errors.

DATES: Effective Dates: The correction to the amendment of 24 CFR 30.90 published on January 15, 2009 (74 FR 2750), is effective February 17, 2009. The correction to the amendment of § 30.90 published on January 26, 2009 (74 FR 4634), is effective February 25, 2009.

FOR FURTHER INFORMATION CONTACT: Dane Narode, Associate General Counsel for Program Enforcement, Department of Housing and Urban Development, 1250 Maryland Avenue, SW., Suite 200, Washington, DC 20024-0500; telephone number 202-708-2350 (this is not a toll-free number), or e-mail address Dane.M.Narode@hud.gov. Individuals with hearing or speech impairments may access this number through TTY by calling the toll-free Federal Information Relay Service at 800-877-8339.

SUPPLEMENTARY INFORMATION: On January 15, 2009 (74 FR 2750), HUD published a final rule that revised HUD's regulations that govern the imposition of civil money penalties, located at part 30 of Title 24 of the Code of Federal Regulations. The final rule followed a proposed rule published on October 17, 2008 (73 FR 61754), that provided a 60 day public comment period. HUD received no comments in response to the proposed rule and, at the final rule stage, adopted the proposed rule without change.

Among other changes, the January 15, 2009, final rule revised procedures at § 30.90 that detail how a respondent against whom HUD has filed a complaint seeking civil money penalties should submit his or her answer. In the January 15, 2009, final rule, HUD attempted to establish a new § 30.90(b) that instructed the respondent to serve upon HUD and file with the Office of Hearing and Appeals a written answer within 30 days of receipt of the complaint, unless such time is extended for good cause. The amendatory language for § 30.90 of the January 15, 2009, final rule, however, requested that the Federal Register redesignate existing paragraph (b) as (c) and “revise” new paragraph (b). Rather than requesting that new paragraph (b) be revised, the amendatory language should have instructed that new paragraph (b) be added.

On January 26, 2009, HUD published a second final rule to amend several sections of HUD's regulations to reflect changes in the office address and staff titles of HUD's Office of Hearings and Appeals. Among the changes included in the January 26, 2009, final rule was one intended to amend § 30.90 of HUD's civil money penalties rule to reflect that the title of “Chief Docket Clerk” has been changed to “Docket Clerk.” The amendatory language for § 30.90 in the January 26, 2009, final rule, however, contained a typographical error and requested that § 30.90(b) be revised. The amendatory language should have requested that § 30.90(c) be revised to conform to HUD's January 15, 2009, final rule. Today's Federal Register document corrects these errors.

Accordingly, FR Doc. E9-851, Civil Money Penalties: Certain Prohibited Conduct (FR-5081-F-02), published in the Federal Register on January 15, 2009 (74 FR 2750) is corrected as follows:

§ 30.90 [Corrected]

On page 2752, in the second column, revise amendatory instruction number 11 to read as follows:

“11. In § 30.90, revise paragraph (a), redesignate paragraph (b) as (c), and add new paragraph (b) to read as follows:”

In addition, FR Doc. E9-1249, HUD Office of Hearings and Appeals; Conforming Changes to Reflect Office Address and Staff Title Changes, and Notification of Retention of Chief Administrative Law Judge (FR-5265-F-01), published in the Federal Register on January 26, 2009 (74 FR 4634) is corrected as follows:

§ 30.90 [Corrected]

On page 4635, in the third column, remove the paragraph designation “(b)” from the amendment to § 30.90, and add in its place “(c)”; and revise the amendatory instruction number 7 to read as follows:

“7. Revise the first sentence of § 30.90(c) to read as follows:”

Dated: February 10, 2009.
Aaron Santa Anna,
Assistant General Counsel for Regulations.

[FR Doc. E9-3245 Filed 2-13-09; 8:45 am]

BILLING CODE 4210-67-P